DEPARTMENT OF HOMELAND SECURITY

Federal Emergency Management Agency

[Docket ID FEMA-2012-0028]

Assistance to Firefighters Grant Program

AGENCY: Federal Emergency Management Agency, DHS.

ACTION: Notice of guidance.

SUMMARY: This Notice provides guidelines that describe the application process for grants and the criteria for awarding grants in the fiscal year (FY) 2012 Assistance to Firefighters Grant (AFG) Program year. It explains the differences, if any, between these guidelines and those recommended by representatives of the Nation's fire service leadership during the annual Criteria Development meeting, which was held October 20-21, 2011. The application period for the FY 2012 AFG Program year will be held June 11, to July 6, 2012, and will be announced on www.grants.gov. Approximately 15,000 to 20,000 applications for AFG funding will be submitted electronically, using the application submission form and process available at https://portal.fema.gov. Before the application period, the “FY 2012 AFG Guidance and Application Kit” will be published on the AFG Web site (www.fema.gov/firegrants). Additional information to assist applicants will be provided on the AFG Web site, including an applicant tutorial, list of frequently asked questions, a “Get Ready Guide, and a Quick Reference Guide.” The AFG Program makes grants directly to fire departments and nonaffiliated emergency medical services (EMS) organizations for the purpose of enhancing the abilities of first responders to protect the health and safety of the public as well as that of first-responder personnel facing fire and fire-related hazards. In addition, the authorizing statute requires that a minimum of 5 percent of appropriated funds be expended for fire prevention and safety grants to be made directly to local fire departments and to local, regional, State, or national entities recognized for their expertise in the fields of fire prevention and firefighter safety research and development.

Authority: 15 U.S.C. 2229, 2229a.

DATES: Grant applications for the Assistance to Firefighters Grants will be accepted electronically at https://portal.fema.gov, from June 11 to July 6, 2012.

ADDRESSES: Assistance to Firefighters Grants Branch, Stop 3620, DHS/FEMA, 800 K Street NW., Washington, DC, 20472-3620.

FOR FURTHER INFORMATION CONTACT: Catherine Patterson, Chief, Assistance to Firefighters Grants Branch, 1-866-274-0960.

SUPPLEMENTARY INFORMATION: The purpose of the Assistance to Firefighters Grant (AFG) Program is to provide grants directly to fire departments and nonaffiliated emergency medical services (EMS) organizations to enhance their ability to protect the health and safety of the public, as well as that of first-responder personnel, with respect to fire and fire-related hazards. The governing statute requires that each year DHS publish in the Federal Register the guidelines that describe the application process and the criteria for grant awards.

Approximately 15,000 to 20,000 applications for AFG funding will be submitted electronically, using the application submission form and process available at the AFG e-Grant application portal: https://portal.fema.gov. Specific information about the submission of grant applications can be found in the “FY 2012 Assistance to Firefighters Grant (AFG) Guidance and Application Kit,” which is available for download at www.fema.gov/firegrants and at www.regulations.gov under Docket ID FEMA-2012-0028.

Paper applications will be accepted but discouraged due to the inherent delays with processing them and because they lack the applicant “help” features that are built into the electronic application. Applicants will be able to obtain a copy of the official paper application form by calling 1-866-274-0960. Paper applications will be sent via regular mail only; no application forms will be sent via overnight delivery, fax, or email. Applicants will be allowed to submit only the fiscal year (FY) 2012 AFG application form that is mailed to them by the AFG. No other version of the application will be accepted. Applicants will be instructed not to use any paper application that they did not receive directly from the AFG and will be instructed not to use a previous year's application. Paper applications must be postmarked no later than July 6, 2012, and mailed to the following address: Cabezon Group, Attn: AFG Program, 11821 Parklawn Drive, Suite 230, Rockville, MD 20852. The AFG will inform applicants that it will not be responsible for applications sent to any other address and that late, incomplete, or faxed applications will NOT be accepted.

Appropriations

Congress appropriated $337,500,000 for the FY 2012 AFG. From this amount, $285,625,000 will be made available for AFG awards. Funds appropriated for the FY 2012 AFG (pursuant to Pub. L. 112-10) will be available for obligation and award until September 30, 2013. FEMA will receive approximately 15,000 to 20,000 applications for assistance and anticipates that it will award approximately 4,000 grants with the grant funding available.

Congress directed the Department of Homeland Security (DHS) to administer the appropriations:

• Up to 5 percent of funds may be used for program administration.

• Up to 2 percent of funds may be used for awards to nonaffiliated EMS organizations.

• No more than 25 percent of funds may be used for vehicle awards.

• No less than 5 percent of funds must be made available to make grants supporting eligible fire prevention activities and research and development activities that improve firefighter safety through the Fire Prevention and Safety (FP&S) Grants. However, due to the importance of mitigation activities, the FY 2012 FP&S will be allocated $35 million for grants. The FP&S Grants are not part of this AFG solicitation. The FP&S Grant application period is projected for the fall or winter of 2012.

Background of the AFG Program

DHS awards the grants on a competitive basis to the applicants that best address the AFG Program's priorities and provide the most compelling justification. Applications that best address the Program's priorities will be reviewed by a panel composed of fire service personnel.

Award Criteria

The panel will review the application and evaluate it using the following criteria:

• Proposed project and the project budget

• Financial need for the project

• Benefits that will result from the project relative to its cost (cost benefit)

• Extent to which the grant will enhance daily operations

• How the grant will positively impact the regional ability to protect life and property

The AFG Program for FY 2012 generally mirrors that of previous years. All applications for grants will be prepared and submitted through the AFG e-Grant application portal (https://portal.fema.gov). DHS again will have a separate application period devoted solely to FP&S Grants, which is projected to occur in the fall or winter of 2012.

Statutory Limits to Funding

Congress has enacted statutory limits to the amount of funding that a grantee may receive from the AFG Program in any single fiscal year (15 U.S.C. 2229(b)(10)), and these limits are based on the population served. Awards will be limited based on the size of the population protected by the applicant, as indicated below.

• An applicant that serves a jurisdiction with 500,000 people or less may not receive grant funding in excess of $1 million for any fiscal year.

• A grantee that serves a jurisdiction with more than 500,000 but not more than 1 million people may not receive grants in excess of $1,750,000 in any fiscal year.

• A grantee that serves a jurisdiction with more than 1 million people may not receive grants in excess of $2,750,000 in any fiscal year.

DHS may waive these established limits to any grantee serving a jurisdiction of 1 million people or less if the agency determines that an extraordinary need for assistance warrants the waiver. No grantee, under any circumstance, may receive “more than the lesser of $2,750,000 or one-half of 1 percent of the funds appropriated under this section for a single fiscal year.” (15 U.S.C. 2229(b)(10)(B)).

Cost Sharing

Grantees must share in the costs of the projects funded under this grant program (15 U.S.C. 2229(b)(6)). Fire departments and nonaffiliated EMS organizations that serve populations of less than 20,000 must match the Federal grant funds with an amount of non-Federal funds equal to 5 percent of the total project cost. Those fire departments and nonaffiliated EMS organizations serving areas with a population between 20,000 and 50,000, inclusive, must match the Federal grant funds with an amount of non-Federal funds equal to 10 percent of the total project cost, and those that serve populations of more than 50,000 must match the Federal grant funds with an amount of non-Federal funds equal to 20 percent of the total project costs. Regional project cost share will be based on the total population and demographics of the entire region. All non-Federal funds must be in cash, i.e., in-kind contributions are not acceptable as matching funds. No waivers of this requirement will be granted except for applicants located in Insular Areas as provided for in 48 U.S.C. 1469a.

Statutory Requirements for Funding Distribution

The authorizing statute imposes additional requirements on ensuring a distribution of grant funds among career, volunteer, and combination (volunteer and career personnel) fire departments, and among urban, suburban, and rural communities. Specifically, DHS must ensure that all-volunteer or combination fire departments receive a portion of the total grant funding that is not less than the proportion of the United States population that those departments protect (15 U.S.C. 2229(b)(11)). There is no corresponding minimum for career departments. Therefore, subject to the other statutory limitations on the ability of DHS to award funds, DHS will ensure that, for the 2012 program year, no less than 33 percent of the funding available for grants will be awarded to combination departments, and no less than 19 percent will be awarded to all-volunteer departments. These figures were obtained from the National Fire Protection Association report entitled “U.S. Fire Department Profile Through 2010,” issued October 2011. If, and only if, other statutory limitations inhibit the ability of DHS to ensure this distribution of funding, DHS will ensure that the aggregate combined total percentage of funding provided to both combination and volunteer departments is no less than 52 percent.

DHS generally makes funding decisions using rank order resulting from the panel evaluation. However, DHS may deviate from rank order and make funding decisions based on the type of department (career, combination, or volunteer) and/or the size and character of the community the applicant serves (urban, suburban, or rural) to the extent it is required to satisfy statutory provisions.

Central Contractor Registration (CCR)

Since October 1, 2003, it has been federally mandated that any organization wishing to do business with the Federal government under a Federal-Acquisition-Regulation-based contract must be registered in the CCR system before being awarded a contract. This includes applicants and grantees for the AFG Program. To submit a new CCR registration, go to www.bpn.gov/ccr/grantees.aspx.

Fire Prevention and Safety Grant Program

In addition to the grants available to fire departments in FY 2012 through the competitive grant program, DHS must set aside no less than 5 percent ($16,881,250) of AFG Program funds for the FP&S Grant Program. However, due to the importance of mitigation activities, DHS will allocate $35 million for the FY 2012 FP&S Grant Program. The FP&S funds will be available to make grants to, or enter into contracts or cooperative agreements with, national, State, local, or community organizations or agencies, including fire departments.

In accordance with the statutory requirement to fund fire prevention activities, the FP&S Program offers grants to support activities in two categories: (1) Activities designed to reach high-risk target groups and mitigate incidences of death and injuries caused by fire and fire-related hazards (“Fire Prevention and Safety Activity”); and (2) research and development activities aimed at improving firefighter safety (“Firefighter Safety Research and Development Activity”). DHS will issue an announcement regarding pertinent details of the FY 2012 FP&S Grant portion of the AFG Program prior to the start of the application period, which is tentatively scheduled for fall or winter of 2012.

Application Process

Organizations may submit one application per application period in each of the three AFG Program areas, e.g., one application for Operations and Safety, one for Vehicle Acquisition, and/or a separate application to be a Regional Project host. If an organization submits more than one application for any of the AFG Program areas, either intentionally or unintentionally, FEMA will deem all applications submitted by that organization for the Program to be ineligible for funding.

Prior to the start of the FY 2012 AFG application period, DHS will conduct applicant workshops across the country to inform potential applicants about the AFG Program. In addition, DHS will provide applicants with an online web-based tutorial (available at the AFG Web site: www.fema.gov/firegrants) and other online information to help them prepare quality grant applications. The AFG also will staff a Help Desk throughout the application period to assist applicants with navigation through the automated application as well as assistance with any questions they have. Applicants can reach the AFG Help Desk through a toll-free telephone number (1-866-274-0960) or electronic mail (firegrants@dhs.gov).

Applicants will be advised to access the application electronically at https://portal.fema.gov. The application also will be accessible from the U.S. Fire Administration's Web site (http://www.usfa.fema.gov) and the grants.gov Web site (http://www.grants.gov). New applicants will be required to register and establish a username and password for secure access to their application. Applicants that applied to any previous AFG funding opportunities will be required to use their previously established usernames and passwords.

In completing the application, applicants will be asked to provide relevant information on their organization's characteristics, call volume, and existing capabilities. Applicants will be asked to answer questions about their grant request that reflect the AFG funding priorities, which are described below. In addition, each applicant will have to complete four separate narratives for each project or grant activity requested. These narratives will address statutory competitive factors: project description and budget, cost benefit, effect on the organization, and additional information. The electronic application process will permit the applicant to enter and save the application data. The system does not permit the submission of incomplete applications. Except for the narrative textboxes, the application will use a “point-and-click” selection process or require the entry of data (e.g., name and address, call volume numbers, etc.) Applicants will be encouraged to read the “AFG Guidance and Application Kit” for more details.

Criteria Development Process

Each year, DHS convenes a panel of fire service professionals to develop the funding priorities and other implementation criteria for AFG. The Criteria Development Panel is comprised of representatives from nine major fire service organizations, who are charged with making recommendations to FEMA regarding the creation of new funding priorities and the modification of existing funding priorities as well as developing criteria for awarding grants. The nine major fire service organizations represented on the panel are:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2012 criteria development panel meeting occurred October 20-21, 2011. The content of the “FY 2012 AFG Guidance and Application Kit” reflects the implementation of the Criteria Development Panel's recommendations with respect to the priorities, direction, and criteria for awards. All of the funding priorities for the FY 2012 AFG are designed to address the following:

• First responder safety

• Enhancing national capabilities

• Risk

• Interoperability

Changes for FY 2012

• Maintenance and Sustainment. The use of FEMA preparedness grant funds for maintenance contracts, warranties, repair or replacement costs, upgrades, and user fees are allowable under all active and future grant awards, unless otherwise noted. For additional information, see “DHS/FEMA Information Bulletin No. 336,” dated November 20, 2009.

• FY 2012 AFG Guidance and Application Kit.

(1) The “Guidance and Application Kit” has been reformatted to match the FEMA Funding Opportunity Announcement (FOA) template.

(2) Program funding priorities are indicated in the “Guidance” as being H (High), M (Medium), or L (Low) funding priorities, with the exception of the funding priorities assigned for the Wellness and Fitness Activity, which are indicated as being Priority I or Priority II.

(3) The term “Other” was removed from both the “AFG Guidance” document and the online application form as an item eligible for funding. The pull-down menus in the online application form will provide a specific list of all items eligible for funding.

• Operations and Safety.

(1) In the evaluation criteria, the weights assigned to the data on “Population Served” and “Call Volume” have been adjusted to reduce their impact on the total score for applicants in suburban and rural communities. They were removed the list of “Additional Considerations” for funding.

(2) Training Projects. “NFPA (Technical Rescue) 1670” was removed from the list of Firefighting Training Priorities. NFPA number “/1006” was added to “NFPA (Rescue Technician) 1670.”

(3) Equipment Projects. All communications equipment or systems purchased with grant funds should comply with the FY 2012 SAFECOM Guidance on Emergency Communication Grants, including provisions on technical standards that ensure and enhance interoperable communications. The FY 2012 SAFECOM Guidance can be found at: http://www.safecomprogram.gov.

(4) Self-Contained Breathing Apparatus (SCBA). “Replacing torn, tattered, or damaged PPE” was elevated from a Medium to a High Priority for funding.

(5) Vehicle Acquisition

(1) “Quints” were removed from the list of funding priorities because they are eligible for funding in the “Aerials” vehicle category.

(2) In suburban communities, “Rescue” vehicles were elevated from a Medium to a High Priority for funding.

(3) In suburban communities, “Hazmat” vehicles were added to the list of Medium Priority vehicles.

(4) In rural communities, “Aerials” were added to the list of High Priority vehicles.

(5) “Call Volume” and “Population Served” were removed from the list of Additional Considerations for funding.

Changes to Criteria Development Panel Recommendations

DHS must explain any differences between the published guidelines and the recommendations made by the criteria development panel and publish this information in the Federal Register prior to making any grants under the Program (15 U.S.C. 2229(b)(14)). DHS accepts and is implementing all of the Criteria Development Panel's recommendations, with the exception of the two that we recommended be revised (discussed below).

(1) Panel members recommended requiring that all grant-funded equipment qualify as being “Made in America.”

DHS acknowledges this Panel recommendation but decided to table this requirement pending the FEMA Grant Programs Directorate's development of a specific policy on this issue. Language was added to the Procurement Integrity section of the “Guidance and Application Kit” stating that, “to the greatest extent possible, the use of federal grant funds should be used for the purchase of goods and services manufactured, assembled, and distributed in America.”

(2) Panel members recommended that the vehicle definitions in the online AFG application be aligned to those in the online application for the FY 2011 Staffing for Adequate Fire and Emergency Response (SAFER) Grant Program.

DHS acknowledges and agrees with this recommendation but is not able to make this system change for the FY 2012 AFG application. DHS will request that this system change be scheduled for implementation in a future deployment to revise the online application.

(3) Panel members recommended that the vehicle definitions in the online AFG application be made consistent with those of the NFPA for pumpers/engines and tankers.

DHS acknowledges this recommendation but has not implemented because we believe that the current definitions and terminology are easier for our constituents in the fire service to use. Due to the inherent differences between pumpers and Type I urban interface engines, descriptions of both types of vehicles remain in the Guidance and the online application. The current language was developed to take into account regional differences in the terms used to describe certain types of vehicles. Some clarifications were made in the application and Guidance with regard to vehicle type descriptions.

Application Review Process

DHS will review and evaluate all AFG applications submitted using the funding priorities and evaluation criteria that was established based on recommendations from the Criteria Development Panel and is described in this document. FEMA will rank all submitted applications based on how well they match the funding priorities for the type of community served. Answers to the application's activity-specific questions provide information used to determine each application ranking relative to the stated priorities.

Preliminary Review Process

DHS will evaluate all applications received first through an automated preliminary review process to determine which projects best address the AFG Program's announced funding priorities. The automated preliminary review will evaluate and score the applicants' answers to the activity-specific questions in terms of the funding priorities and the evaluation criteria described in this document.

The projects that best meet the AFG Program priorities as determined by the preliminary review will be deemed to be in the “competitive range” and will be forwarded for the second level of application review, which is the peer review process. Once the competitive range is established, DHS will review the list of applicants that were not included in the competitive range to determine if any are responsible for protecting DHS-specified critical infrastructure or key resources.

Peer Review Process

All projects deemed to be in the competitive range will be subjected to a second level of review by a technical evaluation panel (TEP) made up of individuals from the fire service, including, but not limited to, firefighters, fire marshals, and fire training instructors.

A panel of at least three peer reviewers will evaluate each project in the competitive range using the project narratives, along with answers to the general questions and the activity-specific questions. Panelists will provide a subjective but qualitative judgment on the merits of each request. They will review and score projects based on the following evaluation criteria:

• Clarity and detail used to describe the proposed project and the project budget

• Organization's financial need for the project

• Benefits that will result from the project relative to its cost (cost benefit)

• Extent to which the project will enhance daily operations

• How the grant will positively impact the regional ability to protect life and property

• Additional information provided by the applicant

Each project will be judged on its own merits and not compared to other projects. As part of the cost-benefit review, the panelists will consider all expenses budgeted, including the individual costs of the items requested as well as the extraneous costs, such as warranties or maintenance costs, administrative costs, and/or indirect costs. Panelists may object to costs that are requested but not fully explained in the application.

All projects reviewed also will be evaluated relative to the critical infrastructure the applicant protects within their area of first-due response. They will assess such infrastructure and the hazards confronting the community as explained in the application's narrative statements, including requests for chemical, biological, radiological, nuclear, and explosive (CBRNE) equipment or training. Critical infrastructure includes any system or asset that, if attacked, could result in catastrophic loss of life or catastrophic economic loss. Critical infrastructure includes public water, power systems, major business centers, chemical facilities, nuclear power plants, major rail and highway bridges, petroleum and/or natural gas transmission pipelines, storage facilities (e.g., chemical storage facilities), telecommunications facilities, and facilities that support large public gatherings, such as sporting events or concerts.

The panelists will evaluate and score each project individually and then discuss the merits and shortcomings of each application in an effort to reconcile any major discrepancies. However, a consensus among reviewers on the scores is not required. The project's total peer review score will be an average of the individual peer reviewers' scores. The projects receiving the highest scores during the peer review process will be deemed in the fundable range.

The total peer review score will be combined with the score earned from the preliminary review, with each score representing 50 percent of the total project score. Projects will be ranked according to the total project scores with DHS considering the highest-scoring projects for awards.

Technical Review Process

Projects receiving the highest scores then will undergo a technical review by a subject matter specialist to assess the technical feasibility of the project and a programmatic review to assess eligibility and other factors.

Applications that involve interoperable communications projects or projects related to chemical, biological, radiological, nuclear, and explosive (CBRNE) equipment or training will undergo a separate review by the responsible State Administrative Agency to assure that the projects are consistent with the Statewide Communications Interoperability Plan (SCIP). If the State determines that the project is inconsistent with the SCIP, the project will not be funded. Grantees requesting support for emergency communications activities should review and comply with the FY 2012 SAFECOM Guidance for Emergency Communication Grants, including provisions on technical standards that ensure and enhance interoperable communications.

After the completion of the technical reviews, DHS will select a sufficient number of awardees from this application period to obligate all of the available grant funding. It will evaluate and act on applications within 90 days following the close of the application period. The majority of awards will be made on or before September 30, 2012, but funds may be available for commitment until September 30, 2013. Awards will not be made in any specified order, i.e., awards will not be made by State, program, etc. DHS will notify unsuccessful applicants as soon as it is feasible.

Environmental and Historic Preservation Review

Applications seeking assistance to modify facilities or to install equipment that require building renovations may undergo additional screening. All modification to facility projects will be subject to all applicable Federal requirements for environmental and historic preservation (EHP). No project that involves a modification to facility can proceed—except for project planning—without prior formal written approval from DHS and the completion of any required EHP review. If an award includes a modification to a facility, the applicant will be responsible for contacting the AFG staff to receive instructions on how to proceed. Noncompliance with these provisions may jeopardize an applicant's award and subsequent funding.

Application Review Considerations

The governing statute requires that each year DHS publish in the Federal Register a description of the grant application process and the criteria for grant awards. This information is provided below.

Fire Department Priorities

Specific rating criteria for each of the eligible programs and activities are discussed below. The funding priorities described in this Notice have been recommended by a panel of representatives from the Nation's fire service leadership and have been accepted by DHS for the purposes of implementing the AFG. These rating criteria provide an understanding of the AFG Program's priorities and the expected cost-effectiveness of any proposed project(s). The activities listed below are in no particular order of priority.

Within the Vehicle Grants activity, DHS will consider the population served by the applicant, with applicants that serve larger populations afforded a higher consideration than applicants that serve smaller populations. DHS will explain further the Program priorities in the Guidance and Application Kit that will be published separately.

(1) Fire Operations and Firefighter Safety Program.

(i) Firefighter Training Activities. The Criteria Development Panel recommended that AFG continue to emphasize the importance of training in the FY 2012 program with respect to fire departments.

Funding Priorities. Due to inherent differences among urban, suburban, and rural firefighting needs, AFG has different priorities in the Firefighting Training program area for departments that serve different types of communities. These are described in detail in the “FY 2012 AFG Guidance and Application Kit.” The High priorities for training in all types of communities are NFPA 1001, 1002, 472, 1581, 1021; confined space awareness; wildland firefighting (basic and red card training); rapid intervention or RIT; first responder; firefighter safety and survival; safety officer; driver/operator; fire prevention; fire inspector; fire investigator; fire educator; instructor; NIMS/ICS; firefighting physical ability program; emergency scene rehab; critical incident debriefing; vehicle rescue, rescue technician; emergency medical technician-paramedic (EMT-P), emergency medical technician-basic (EMT-B); and training needed to comply with State-mandated and federally mandated programs. Please see the “FY 2012 AFG Guidance and Application Kit” for additional information on the High, Medium, and Low Priorities for training in urban, suburban, and rural communities.

Additional Considerations. Factors such as whether multiple departments will be trained, instructor-led vs. media-led training, and the number of firefighters to be trained. Large departments with a high number of active firefighters also will receive additional consideration.

(ii) Firefighting Equipment Acquisition. AFG funds are available for equipment to enhance the safety or effectiveness of firefighting, rescue, and fire-based EMS functions. Equipment requested must meet all mandatory requirements as well as any national and/or state DHS-adopted standards. See NFPA standards at www.NFPA.org/nfpaafg.2012. The equipment requested should improve the health and safety of the public and firefighters.

Funding Priorities. High priority for funding will be first-time equipment purchases to support an existing mission and/or the replacement of obsolete or broken and inoperable equipment. A medium priority will be equipment purchases to increase capabilities within the department's existing mission or to meet a new risk. Low priority for funding will be requests for equipment for a new mission to meet an existing risk and/or request additional supplies or reserve equipment. A department takes on a “new mission” when it expands its services into areas not previously offered, such as a fire department seeking funds to provide EMS for the first time. A “new risk” presents itself when a department must address risks that have materialized in the department's area of responsibility, e.g., the construction of a new nuclear power plant could constitute a “new mission.”

Additional Considerations. Will be given for the following factors:

• Equipment that has a direct effect on firefighters' health and safety

• Age of equipment being replaced

• Equipment that benefits other jurisdictions

• Equipment that brings the department into compliance with nationally recommended standards (i.e., NFPA) or statutory compliance (i.e., Occupational Safety & Health Administration (OSHA))

(iii) Firefighter Personal Protective Equipment (PPE) Acquisition. AFG funds are available to acquire primarily OSHA-required and NFPA-compliant PPE for firefighting personnel. Equipment requested must meet all current mandatory requirements, as well as any national and/or state DHS-adopted standards. Equipment requested should have the goal of increasing firefighter safety. Information on the relevant NFPA standards can be obtained from the organization's Web site at www.NFPA.org/nfpaafg.2012. If requesting training for any items in this section, please list it in the Other section under Additional Funding for each item for which training is needed. Applicants will be required to provide the age of the PPE to be replaced.

Funding Priorities. The highest priorities for funding will be requests from departments to buy new PPE for the first time, to replace or update obsolete PPE to the current standard, and to replace torn, tattered, or damaged PPE. (Obsolete is defined as any PPE that is 10 years or older or is outdated by two NFPA cycles.) The medium priority for funding will be requests to replace contaminated PPE or to address a new risk. A low priority for funding will be requests to replace new or used PPE, replace worn but usable PPE that is not compliant to the current edition of the NFPA standard, to meet a new mission, or to increase current inventory.

Self-contained breathing apparatus (SCBA) Priorities. Awards will be based on number of seated riding positions in the department's vehicle fleet and the age of existing SCBAs, limited to one spare cylinder (unless justified otherwise in the Request Details narrative for the PPE activity). New SCBAs must have automatic-on or integrated Personal Alert Safety System (PASS) devices and be CBRNE-compliant to the current edition of the NFPA 1981 standard. All requests must be justified in the Request Details narrative for the PPE activity.

Funding Priorities. Highest priority will be to replace SCBAs that are compliant with NFPA 1981, pre-2002 Edition. A medium priority will be to replace SCBAs that are compliant with the 2002 edition of NFPA 1981 (must be justified in PPE narrative). It will be a low priority to replace SCBAs that are compliant with the 2007 edition of NFPA 1981 (must be justified in the PPE narrative).

Additional Considerations for PPE. Additional consideration will be given to applicants that have the oldest PPE and/or are trying to bring the department into 100 percent NFPA compliance and for the number of firefighters who will have compliant gear.

(iv) Firefighter Wellness and Fitness Activities. Wellness and Fitness programs are intended to strengthen first responders so that their mental, physical, and emotional capabilities are resilient enough to withstand the demands of emergency services response. To be eligible for FY 2012 funding of this activity, fire departments must offer, or plan to offer, all four of the following basic programs:

• Periodic health screenings

• Entry physical examinations

• Immunizations

• Behavioral health programs

Funding Priorities. In this activity, funding priorities are described as either Priority 1 or Priority 2, with Priority 1 programs being the highest priority for funding. Departments that have some of the Priority 1 programs in place must apply for funds to implement the other Priority 1 programs listed before applying for funds for additional Wellness and Fitness programs or equipment. The following programs are Priority 1: initial medical exams (must meet NFPA 1582 requirements), job-related immunization programs, annual medical and fitness evaluations, and behavioral health programs.

To be eligible for Priority 2 items, the department must offer or be requesting funds to provide all four of the programs in Priority 1. Priority 2 items include candidate physical ability evaluations, formal fitness and injury prevention programs and equipment, injury and illness rehab, and IAFF or IAFC Peer Fitness Trainer programs.

(v) Modifications to Fire Stations. FY 2012 AFG Grants may be used to modify and retrofit existing fire stations and other facilities or structures built before 2003. New fire station construction is not eligible for funding. To be eligible, the modification must not change the structure footprint or profile. If requesting multiple items in this activity, total funding for all project and activities cannot exceed $100,000 per fire station. Eligible projects under this activity must have a direct effect on the health and safety of firefighters.

FEMA is legally required to consider the potential impacts of all grant-funded projects on environmental resources and historic properties through an environmental and historic preservation (EHP) review. Any project with the potential to impact natural resources or historic properties cannot be initiated until FEMA has completed the required FEMA EHP review. Grantees that implement projects before receiving EHP approval from FEMA risk having grant funds deobligated. Modification projects that must undergo EHP reviews include but are not limited to the installation of equipment; ground-disturbing activities, such as building a concrete pad for a station generator; communications tower installations, or the modification or renovation of existing buildings and structures. Any project not specifically excluded from a FEMA EHP review must undergo such a review, per the Grant Programs Directorate's Programmatic Environmental Assessment (PEA). For more information, see Information Bulletin 345. Grantees must comply with all applicable EHP laws, regulations, and Executive Orders (EOs) to draw down their FY 2012 AFG funds.

Funding Priorities. Highest priority for funding will be requests to install modifications such as sole-source capture exhaust systems, sprinkler systems, or smoke/fire alarm notification systems in stations, including maritime and air operations facilities, that are occupied 24/7 and offer sleeping quarters. Medium priority will be given to requests for air quality systems and/or emergency generators from departments that may or may not offer sleeping quarters. Low priority will be given to requests to modify facilities that are not occupied 24/7 and do not offer sleeping quarters, and for training facilities.

Additional Considerations: Will be given for the age of the building, with older facilities receiving higher priority.

(2) Firefighting Vehicles Acquisition Program.

AFG provides grants for new firefighting vehicles, used fire apparatus originally designed for firefighting, or refurbished apparatus originally designed for firefighting. Funds also may be used to refurbish a vehicle the department currently owns, but only if the vehicle to be refurbished was designed originally for firefighting. New vehicles purchased with AFG funds must be compliant with NFPA 1901 (Standard for Automotive Apparatus) or NFPA 1906 (Standard for Wildland Fire Apparatus). Used apparatus must be compliant with NFPA 1901 or 1906 for the year the vehicle was manufactured. Refurbished apparatus must meet the current NFPA 1912 (Standard for Fire Apparatus Refurbishing). Converted vehicles not originally designed for firefighting are not eligible for refurbishment.

Applicants are allowed to apply for more than one vehicle, but requests cannot exceed the financial cap based on population listed in the application. If a department submits multiple applications and more than one of those requests are approved, the department will be held to the same financial cap.

FEMA reserves the right to reduce the amount of any vehicle request, in whole or in part, that is considered excessive in cost. AFG funding is meant to supplement, not replace, an organization's funding.

Applicants requesting vehicles that do not have driver/operators trained to U.S. Department of Transportation Emergency Vehicle Operators Course (EVOC) National Standard Curriculum, or equivalent, and are not planning to have a training program in place by the time the vehicle is delivered, will not receive an award. Training may be requested in the Other section under Additional Funding in the Vehicle request application.

Funding Priorities. Inherent differences exist between urban, suburban, and rural firefighting conventions. For this reason, DHS has developed different priorities in the Firefighting Vehicles Program for departments that serve different types of communities. The chart below delineates the priorities for firefighting vehicles for each type of community.

Note: Due to nationwide statistics indicating the high number of fire-based EMS calls, ambulances will be the equivalent to a pumper as a high priority item.

Firefighting Vehicle Program Priorities
[Firefighting vehicles are categorized by community type and as High (H), Medium (M), or Low (L) funding priorities and within that priority the vehicles have an equal value]
Priority | Urban communities | Suburban communities | Rural communities
H | Pumper Ambulance Aerial Rescue | Pumper Ambulance Aerial Tanker—Tender Rescue | Pumper Ambulance Brush—Attack Tanker—Tender Aerial
M | Command Hazmat Light/Air Unit Rehab Unit | Hazmat Command Light/Air Unit Brush—Attack Rehab Unit | Command Hazmat Rescue Light/Air Unit
L | Aircraft Rescue and Firefighting Vehicle (ARFFV) Brush—Attack Foam Truck Fire Boat Tanker—Tender Highway Safety Unit | ARFF Foam Truck Highway Safety Unit Fire Boat | Foam Truck Highway Safety Unit ARFF Rehab Unit Fire Boat

Additional Considerations. Will be given for the following factors:

• Existence of automatic aid agreements, mutual aid agreements, or both

• Request the replacement of open cab/jump seat configurations

• Age of the vehicle being replaced; older equipment receives higher consideration

• Age of the newest vehicle in the department's fleet that is like the vehicle to be replaced

• Average age of the fleet; older equipment within the same class

• Converted vehicles not designed or intended for use in the fire service

Compliance with standards:

• New fire apparatus must be compliant with NFPA 1901 or 1906 for the year it was ordered or manufactured.

• Used fire apparatus must be compliant with NFPA 1901 or 1906 standards for the year the vehicle was manufactured

• Ambulances must meet NFPA, General Services Administration (GSA) KKK-1822F standards for the year ordered or manufactured

• Applicants must certify that unsafe vehicles will be permanently removed from service if awarded a grant

• Acceptable uses of unsafe vehicles include farming, nursery, scrap metal, salvage, construction, etc

• Refurbished vehicles must meet current NFPA 1912 standards

(3) Administrative Costs.

Panelists will assess the administrative costs requested in any application and determine if the request is reasonable and in the best interest of the Program.

Nonaffiliated EMS Organization Priorities

AFG funds may be used to enhance emergency medical services provided by nonaffiliated EMS organizations, but the authorizing statute limits funding for these organizations to no more than 2 percent of the appropriated amount.

The Criteria Development Panel recommended that it is more cost-effective to enhance or expand an existing EMS organization, by providing training or equipment, than it is to create a new service. Therefore, communities attempting to initiate EMS services will receive the lowest competitive rating. Requests for equipment and training to prepare for response to incidents involving CBRNE are available under the applicable Equipment and Training activities.

Specific rating criteria and funding priorities for each of the grant categories are provided below following the descriptions of this year's eligible programs. The rating criteria, in conjunction with the program description, provide an understanding of the evaluation standards. DHS will explain further the funding priorities in the “FY 2011 AFG Guidance and Application Kit.”

(1) EMS Operations and Safety Program.

Five different activities may be funded under this program area:

• First responder/Emergency Medical Responder (EMR) training

• EMS equipment acquisition

• EMS personal protective equipment

• EMS wellness and fitness

• Modifications to EMS facilities

Applicants may apply for as many of the activities within the Operations and Safety Program as they deem necessary.

(i) First Responder/EMS Training Activities. AFG provides grants to train EMS personnel. Examples of training activities include, but are not limited to, first responder/emergency responder, Basic Life Support (BLS), Advanced Life Support (ALS), Paramedic, Hazmat Operations, or Rescue Operations.

Funding Priorities. Since training is a prerequisite to the effective use of EMS equipment, organizations that request items more focused on training activities will receive a higher competitive rating than organizations that focus on equipment.

A higher competitive rating will be given to nonaffiliated EMS organizations that are planning to upgrade services to the ALS level of response. Specifically, requests for training to elevate an organization's response level from EMT-B to EMT-I will receive the highest priority for funding. Requests for training to elevate the organization's response level from EMT-I to EMT-P also will receive a high priority for funding.

The second priority for funding is training to elevate emergency responders' capabilities from first responder to the BLS level of response, i.e., EMT-B. Due to the amount of time and cost required, upgrading an organization's response level from EMT-B to EMT-P is a lower priority. Organizations seeking training in rescue or Hazmat operations will receive lower consideration than organizations seeking training for medical services. The lowest priority is to fund first responder training.

Additional Considerations. Organizations seeking to train a high percentage of its active first responders will receive additional consideration.

(ii) EMS Equipment Acquisition. AFG funds are available for equipment to enhance the safety or effectiveness of EMS response. Equipment requested must meet all mandatory requirements as well as any national, state, or DHS-adopted standards. Equipment requested should solve interoperability or compatibility problems as may be required by local jurisdictions. Requests will be funded up to an organization's current capabilities, particularly requests for decontamination and Hazmat equipment.

Note: All communications equipment or systems purchased with grant funds should comply with the FY 2012 SAFECOM Guidance on Emergency Communication Grants, including provisions on technical standards that ensure and enhance interoperable communications. The FY 2012 SAFECOM Guidance can be found at: http://www.safecomprogram.gov.

Funding Priorities. Highest priority will be given to equipment requests associated with upgrading EMS from BLS to ALS, i.e., EMT-I and EMT-P. High priority also will be given to requests for equipment that will bring the department into compliance with NFPA standards and other national, state, or local jurisdictional requirements. Medium priority will be given to requests for equipment that brings a department into voluntary compliance with NFPA/OSHA standards and requests to expand current EMS. Low priority will be given to the following requests: To begin a new service, to replace used or obsolete equipment, to buy equipment that does not affect statutory or voluntary compliance with a national standard, and equipment for Hazmat operations/technicians and for rescue operations/technicians.

Additional Considerations. Additional consideration will be given to requests that support regional collaborations benefiting multiple jurisdictions.

(iii) EMS Personal Protective Equipment. AFG funds are available to acquire EMS PPE for first responder personnel. Equipment requested must meet all mandatory requirements, as well as any current national and/or state DHS-adopted standards or local EMS protocols. Applicants must indicate grant-purchased equipment will be operated by sufficiently trained staff, and failure to meet this requirement will result in ineligibility for funding. Funding for PPE training is eligible but must be requested in the Other section under Additional Funding for the item requested.

Funding Priorities. High priority for funding will be requests to buy new PPE for the first time, to replace or update obsolete PPE to the current standard, and to replace torn, tattered, or damaged PPE. (Obsolete PPE is defined as any SCBA/PPE that is 10 years or older or is outdated by two NFPA cycles.) Medium priority will be given to requests to replace contaminated PPE, PPE to meet a new risk, and used PPE. Low priority will be given to requests to replace worn but still usable PPE that is not compliant to the current edition of NFPA standard, to replace new PPE, PPE for a new mission, and to increase the inventory or supply of PPE.

SCBA Priorities. All SCBA requests must be justified in the PPE narrative. Awards will be based on the number of seated riding positions in department's vehicle fleet and the age of existing SCBAs, limited to one spare cylinder (unless justified in the PPE activity narrative). Highest priority for funding of SCBAs will be to replace SCBA that are compliant with the pre-2002 edition of NFPA 1981. Medium priority will be given to replacing SCBA that are compliant with the 2002 edition of NFPA 1981. Low priority will be given to requests to replace SCBA that are compliant with the 2007 edition of NFPA 1981.

Additional Considerations. Will be given to the percentage of firefighters/EMS personnel served by the project and the age of the equipment being replaced.

(iv) EMS Wellness and Fitness Activities. Wellness programs are intended to strengthen uniformed personnel so the mental, physical, and emotional capabilities are resilient to withstand the demands of emergency services response. To be eligible for funding under this activity in FY 2012, organizations must offer, or plan to offer, all four of the following basic wellness and fitness programs:

• Periodic health screenings

• Entry physical examinations (compliant with current NFPA 1582)

• Immunizations

• Behavioral health programs

Funding Priorities. In this activity, funding priorities are described as either Priority 1 or Priority 2, with Priority 1 programs being the highest priority for funding. Organizations that have some of the Priority 1 programs in place must apply for funds to implement the other Priority 1 programs listed before applying for funds for additional Wellness and Fitness programs or equipment. The following programs are Priority 1: Initial medical exams (must be compliant with current NFPA 1582), job-related immunization programs (as required by the department or by law), annual medical and fitness evaluations, and behavioral health programs.

To be eligible for Priority 2 items, the department must offer or be requesting funds to provide all four of the programs in Priority 1. Priority 2 items include candidate physical ability evaluations, formal fitness and injury prevention programs and equipment, injury and illness rehab, and IAFF or IAFC Peer Fitness Trainer programs.

(v) Modification to EMS Facilities. Grants may be used to modify and retrofit existing fire stations and other facilities or structures built before 2003 that do not have the requisite safety features. New facility construction is not eligible for funding. To be eligible, the modification must not change the structure footprint or profile. If requesting multiple items in this activity, total funding for all project and activities cannot exceed $100,000 per facility. Remodeling to fulfill other grant initiatives is limited to $10,000. Eligible projects under this activity must have a direct effect on the health and safety of first responders.

FEMA is legally required to consider the potential impacts of all grant-funded projects on environmental resources and historic properties through an EHP review. Any project with the potential to impact natural resources or historic properties cannot be initiated until FEMA has completed the required FEMA EHP review. Grantees that implement projects before receiving EHP approval from FEMA risk having grant funds deobligated. Grantees should submit the FEMA EHP Screening Form for each project as soon as possible upon receiving the grant award.

Modification projects that must undergo EHP reviews include but are not limited to the installation of equipment; ground-disturbing activities, such as building a concrete pad for a station generator; communications tower installations, or the modification or renovation of existing buildings and structures. Any project not specifically excluded from a FEMA EHP review must undergo such a review, per the Grant Programs Directorate's PEA. For more information, see Information Bulletin 345. Grantees must comply with all applicable EHP laws, regulations, and EOs to draw down their FY 2012 AFG funds.

Funding Priorities. Highest priority for funding will be requests to install modifications such as sole-source capture exhaust systems, sprinkler systems, or smoke/fire alarm notification systems in stations, including maritime and air operations facilities, that are occupied 24/7 and offer sleeping quarters. Medium priority will be given to requests for air quality systems and/or emergency generators from departments that may or may not offer sleeping quarters. Low priority will be given to requests to modify facilities that are not occupied 24/7 and do not offer sleeping quarters, and for training facilities.

Additional Considerations: Will be given for the age of the building, with older facilities receiving higher priority.

Grants may be used only to modify or retrofit existing EMS facilities that were built before 2003 and do not have specific safety features. The construction of new facilities is not eligible for funding. Grant funds may only be used to retrofit existing structures built prior to 2003 that do not have the requisite safety features. If requesting multiple items in this activity, funding cannot exceed a maximum of $100,000 per station. Remodeling to fulfill other grant initiatives is limited to $10,000. Eligible projects under this activity must have a direct effect on the health and safety of first responders.

FEMA is legally required to consider the potential impacts of all grant-funded projects on environmental resources and historic properties. For AFG and other preparedness grant programs, this is accomplished via FEMA's EHP Review. Grantees must comply with all applicable EHP laws, regulations, and Executive Orders (EOs) in order to draw down their FY 2012 AFG grant funds. Any project with the potential to impact natural resources or historic properties cannot be initiated until FEMA has completed the required FEMA EHP review. Grantees that implement projects prior to receiving EHP approval from FEMA risk de-obligation of funds.

AFG projects that involve the installation of equipment, ground-disturbing activities, and new construction, including communication towers, or modification/renovation of existing buildings or structures must undergo a FEMA EHP review. Activities not specifically excluded from a FEMA EHP review also will require an EHP review per the GPD Programmatic Environmental Assessment (PEA). For more information on the PEA, see Information Bulletin 345 at http://www.fema.gov/pdf/government/grant/bulletins/info345.pdf.

Funding Priorities. Highest priority in this activity will go to departments requesting direct sole-source capture exhaust systems, sprinkler systems, or smoke/fire alarm notification systems for stations with sleeping quarters, including maritime/air operations facilities, that are occupied 24/7. Medium priority will be given to departments (with or without sleeping quarters) that request air quality systems and/or emergency generators. Low priority will be given to departments requesting funding of one of the high or medium priorities listed above but do not have facilities that are occupied 24/7 and do not have sleeping quarters and also to requests for training facilities.

Additional Considerations. Additional consideration will be given for the age of the building, with older facilities receiving higher priority.

(2) EMS Vehicles Acquisition Program.

Funds may be used to acquire new, used, or refurbished EMS vehicles. Funds may also be used to refurbish a vehicle the organization currently owns. To be eligible for funding, EMS vehicles purchased with AFG funds must be compliant with current General Services Administration standards, specifically KKK-A-1822 (“Guide for Emergency Medical Services and Systems”), found at http://www.gsa.gov/vehiclestandards/index.cfm.

Applicants are allowed to apply for more than one vehicle, but requests cannot exceed the financial cap based on population listed in the application. If a department submits multiple applications and more than one of those requests are approved, the department will be held to the same financial cap. FEMA reserves the right to reduce the amount of any vehicle request, in whole or in part, that is considered excessive in cost. AFG funding is meant to supplement, not replace, an organization's funding.

Applicants requesting vehicles that do not have driver/operators trained to U.S. Department of Transportation Emergency Vehicle Operators Course (EVOC) National Standard Curriculum, or equivalent, and are not planning to have a training program in place by the time the vehicle is delivered, will not receive an award. Training may be requested in the Other section under Additional Funding in the Vehicle request application. Driver training programs must be in place prior to vehicle delivery.

Funding Priorities. The following chart shows the priorities in the EMS Vehicle Program for FY 2012. The priorities are the same for all types of communities: urban, suburban, and rural.

EMS Vehicle Program Priorities
H | Ambulances or transport units to support EMS functions.
M | Non-transport (vehicles that do not transport a patient).

Compliance with standards: New and refurbished ambulances must meet current applicable standards for the year of ordered or manufactured, e.g., NFPA, General Services Administration (GSA) KKK-1822.

(3) Regional Project Priorities.

A regional project is one in which multiple organizations serving more than one local jurisdiction benefit directly from the activities implemented with the grant funds. Regional projects are designed to facilitate efficiency and communications on the fire ground among multiple jurisdictions. Any eligible applicant may act as a host applicant and apply for a regional project. A list of all the participating organizations that will benefit from the proposed regional project must be listed in the application. Note that a county fire department applying for a countywide communications system would NOT be considered a regional project because it does not benefit multiple jurisdictions.

Fire departments or nonaffiliated EMS organizations acting as host applicants for a regional project also may apply for their own project funding to meet non-regional needs by submitting a separate grant application. However, the request may not duplicate the items being requested in the regional project application.

Funding Priorities. The activities eligible for Regional Project funding are training, equipment, and PPE. The funding priorities for these activities are the same as those indicated previously in the Operations and Safety Program for fire and nonaffiliated EMS organizations.

Not Eligible for Regional Funding: Wellness and fitness, modification to facilities, and vehicle acquisition.

Award Information

Applications for regional projects will not be included in the host applicant's funding limitations detailed in Part II of the Guidance and Application Kit. However, regional applicants will be subject to their own limitation based on the total population that the regional project will serve. For example, a regional project serving a population of fewer than 500,000 people will be limited to $1 million. A regional project's cost share will be based on the total population of the entire region rather than on the population served by the host applicant.

(4) Administrative Costs.

Panelists will assess the administrative costs requested in each application and determine whether the request is reasonable and in the best interest of the Program.

Dated: June 18, 2012.
W. Craig Fugate,
Administrator, Federal Emergency Management Agency.

[FR Doc. 2012-15333 Filed 6-21-12; 8:45 am]

BILLING CODE 9111-64-P